DEPARTMENT OF COMMERCE

National Telecommunications and Information Administration

Agency Information Collection Activities; Submission for OMB Review; Comment Request; Web-Based Frequency Coordination System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 3, 2023 during a 60-day comment period. This notice allows for an additional 30 days for public comments.

Agency: National Telecommunications and Information Administration (NTIA), Commerce.

Title: Web-Based Frequency Coordination System.

OMB Control Number: 0660-0018.

Form Number(s): None.

Type of Request: Extension of currently approved information collection.

Number of Respondents: 6,551.

Average Hours per Response: 0.25.

Burden Hours: 1,638.

Needs and Uses: The information is submitted to a web-based platform and is used by NTIA to ensure the mutual compatibility of proposed non-federal radio stations with existing federal radio stations and planned future use. The data is used for analysis on a continuous basis by the federal agencies to assure mutual compatibility of future government operations.

Affected Public: Applicants seeking to operate non-federal radio stations in the 70-80-90 GHz bands.

Frequency: Per application.

Respondent's Obligation: Voluntary.

Legal Authority: 47 U.S.C. 902(b)(2), NTIA Communications and Information Functions.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0660-0018.

Sheleen Dumas,
Department PRA Clearance Officer, Office of the Under Secretary of Economic Affairs, Commerce Department.

[FR Doc. 2023-12594 Filed 6-12-23; 8:45 am]

BILLING CODE 3510-60-P